DEPARTMENT OF HOMELAND SECURITY

U.S. Citizenship and Immigration Services

[OMB Control Number 1615-0040]

Agency Information Collection Activities: Application for Employment Authorization, Form I-765; Form I-765 Work Sheet, Form I-765WS; Revision of a Currently Approved Collection

ACTION: 60-Day notice.

SUMMARY: In accordance with the Paperwork Reduction Act of 1995 (Pub.L.104-13, 44 U.S.C. 3501 et seq.), DHS is requesting public comment on a proposed revision to an approved information collection. On August 15, 2012, the Department of Homeland Security (DHS), U.S. Citizenship and Immigration Services (USCIS), submitted an information collection request, utilizing emergency review procedures, to the Office of Management and Budget (OMB) for review and clearance. OMB approved the information collection request. This notice is to obtain public comment on the revision and extension of that approved collection.

DATES: Comments are encouraged and will be accepted for sixty days until February 15, 2013.

ADDRESSES: Written comments and suggestions regarding items contained in this notice, and especially with regard to the estimated public burden and associated response time should be directed to: DHS, USCIS, Office of Policy and Strategy, Chief, Regulatory Coordination Division, 20 Massachusetts Avenue NW., Washington, DC 20529-2140. Comments may be submitted to DHS via email at uscisfrcomment@uscis.dhs.gov and must include OMB Control Number 1615-0040 in the subject box. Comments may also be submitted via the Federal eRulemaking Portal Web site at http://www.Regulations.gov under e-Docket ID number USCIS-2005-0035.

All submissions received must include the agency name and Docket ID. Regardless of the method used for submitting comments or material, all submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or that is offensive. For additional information, please read the Privacy Act notice that is available via the link in the footer of http://www.regulations.gov.

Issues for Comment Focus

DHS, USCIS invites the general public and other Federal agencies to comment upon this proposed revision of a currently approved collection of information. In accordance with the Paperwork Reduction Act of 1995, the information collection notice is published in the Federal Register to obtain comments regarding the nature of the information collection, the categories of respondents, and the estimated burden (i.e. the time, effort, and resources used by the respondents to respond).

For Forms I-765 and I-765WS, USCIS is especially interested in the public's experience, input, and estimates on the burden in terms of time and money incurred by applicants for the following aspects of this information collection:

• The time burden incurred by preparers (persons who assist the respondent with the preparation of the form) who are not paid by the respondent.

• For preparers who are paid, the time and expense to the respondent to find and secure such preparers for assistance.

• The amount that paid preparers charge for their services.

• The time required to obtain supporting documents for Forms I-765 and I-765WS.

• The monetary costs incurred to secure supporting documents from sources such as a landlord, church, utility, public agency (housing, social services, law enforcement, local/state governments), school, medical care provider, advocacy group, law firm, or military service.

• The average time required and cost incurred to secure secondary evidence such as an affidavit or a statement.

• The percentage of total applicants who require English translations of their supporting documents.

• The percentage of supporting documents for each individual applicant that require translation into English.

• The time required to find, hire or otherwise obtain translations of supporting documents for immigration benefit requests.

• The average out of pocket monetary cost if any to obtain translations of supporting documents when required.

In addition, to truly be helpful to the improvement of this form and the program that oversees the services associated with this information collection; written comments and suggestions concerning this collection of information are requested to provide clear and specific suggestions on the data elements captured through these forms and the evidence required to be submitted with a focus on one or more of the following four points:

(1) Whether the proposed collection of information is necessary for the proper performance of the functions of the agency, including whether the information will have practical utility;

(2) The accuracy of the agency's estimate of the burden of the proposed collection of information, including the validity of the methodology and assumptions used;

(3) How to enhance the quality, utility, and clarity of the information to be collected; and

(4) How to reduce or minimize the burden of the collection of information on those who are to respond, including through the use of appropriate automated, electronic, mechanical, or other technological collection techniques or other forms of information technology, e.g., permitting electronic submission of responses.

Overview of This Information Collection

(1) Type of Information Collection: Revision of a currently approved information collection.

(2) Title of the Form/Collection: Application for Employment Authorization; Form I-765 Work Sheet.

(3) Agency form number, if any, and the applicable component of the Department of Homeland Security sponsoring the collection: Form I-765 and Form I-765WS, U.S. Citizenship and Immigration Services.

(4) Affected public who will be asked or required to respond, as well as a brief abstract: Primary: Individuals or Households. The information collected on this form is used by USCIS to determine eligibility for the issuance of the employment authorization document.

(5) An estimate of the total number of respondents and the amount of time estimated for an average respondent to respond: 1,420,000 responses related to Form I-765 at 3.42 hours per response; 1,043,992 responses related to Biometrics at 1.17 hours; 706,057 responses related to Form I-765WS at .50 hours; and 1,420,000 responses related to Passport-Style Photographs at .50 hours per response.

(6) An estimate of the total public burden (in hours) associated with the collection: 7,140,900 annual burden hours.

If you need a copy of the information collection instrument with instructions, or additional information, please visit the Federal eRulemaking Portal site at: http://www.regulations.gov. We may also be contacted at: USCIS, Office of Policy and Strategy, Regulatory Coordination Division, 20 Massachusetts Avenue NW., Washington, DC 20529-2140, Telephone number 202-272-8377.

Dated: December 11, 2012.
Laura Dawkins,
Chief, Regulatory Coordination Division, Office of Policy and Strategy, U.S. Citizenship and Immigration Services, Department of Homeland Security.

[FR Doc. 2012-30340 Filed 12-14-12; 8:45 am]

BILLING CODE 9111-97-P